DEPARTMENT OF THE INTERIOR

Bureau of Land Management

[MT-060-08-1430-EQ; MTM 044187]

Notice of Realty Action: Non-Competitive Lease of Public Land in Pondera County, MT

AGENCY: Bureau of Land Management, Lewistown Field Office, Interior.

ACTION: Designation of public lands in Pondera County, Montana, for FLPMA lease.

SUMMARY: The public land proposed for lease includes about five acres which has a long history of use by the family that owns the improvements on it. The historic cabin and other limited improvements are associated with adjacent private land that was homesteaded and patented in 1907. The previous lessee passed away unbeknownst to BLM and the lease expired. However, the family continued to pay the rent in the interim. Members of the family are now seeking to lease the land again because they own the improvements and have long-standing historical family ties to the property. The five-acre tract is adjacent to the applicant's private land and is part of the applicant's BLM grazing allotment. Disposal of the land at this time via public sale is not an option because it is within a retention zone per the Land Use Plan for that area.

The following described public lands are suitable for lease under Section 302 of the Federal Land Policy and Management Act of 1976, 43 U.S.C. 1732:

Principal Meridian Montana

T. 29 N., R. 9 W.,

Section 35, E½W½SW¼ and W½E½SW¼ of Lot 13.

Containing about 5 acres.

DATES: The effective date of this Notice of Realty Action is the publication date of this notice in the Federal Register.

For a period of 30 days from the date of this notice, interested parties may submit written comments to June Bailey, Lewistown Field Manager, Bureau of Land Management, P.O. Box 1160, Lewistown, Montana 59457. Any adverse comments will be evaluated by the BLM Lewistown Field Manager who may sustain, vacate, or modify this realty action.

FOR FURTHER INFORMATION CONTACT: Information related to the proposed lease is available by contacting Willy Frank at the BLM Lewistown Field Office, P.O. Box 1160, Lewistown, Montana 59457.

SUPPLEMENTARY INFORMATION: This lease is consistent with Bureau of Land Management policies and planning. The public interest will be served by the issuance of this lease since it will allow for continued clean up of the immediate area and the stabilization and preservation of the historic cabin.

Dated: October 19, 2007.
Scott Haight,
Associate Lewistown Field Manager.

[FR Doc. E7-20996 Filed 10-24-07; 8:45 am]

BILLING CODE 4310-$$-P